DEPARTMENT OF HEALTH AND HUMAN SERVICES

National Institutes of Health

National Institute on Minority Health and Health Disparities; Notice of Closed Meetings

Pursuant to section 10(d) of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute on Minority Health and Health Disparities Special Emphasis Panel; ZMD1 DRI M1 Special Emphasis Panel for Review of Mentored Research Scientist Development Award (K01).

Date: February 12-13, 2020.

Time: 12:00 p.m. to 5:00 p.m.

Agenda: To review and evaluate grant applications.

Place: National Institutes of Health, Gateway Plaza, 7201 Wisconsin Ave., Bethesda, MD 20817 (Telephone Conference Call).

Contact Person: Deborah Ismond, Ph.D., Scientific Review Officer, Division of Scientific Programs, National Institutes of Health, NIMHD, Gateway Building, 7201 Wisconsin Avenue, Bethesda, MD 20892, (301) 402-1366, ismonddr@mail.nih.gov.

Name of Committee: National Institute on Minority Health and Health Disparities Special Emphasis Panel; NIMHD Research Career Development Awards (Ks).

Date: March 4, 2020.

Time: 1:00 p.m. to 5:00 p.m.

Agenda: To review and evaluate grant applications.

Place: National Institutes of Health, Gateway Building, 7201 Wisconsin Avenue, Bethesda, MD 20892 (Virtual Meeting).

Contact Person: Xinli Nan, M.D., Ph.D., Scientific Review Officer, Division of Scientific Programs, National Institutes of Health, NIMHD, Gateway Building, 7201 Wisconsin Avenue, Bethesda, MD 20892, (301) 594-7784, Xinli.Nan@nih.gov.

Name of Committee: National Institute on Minority Health and Health Disparities Special Emphasis Panel; Specialized Centers of Excellence on Environmental Health Disparities Research (P50 Clinical Trial Optional).

Date: March 10-12, 2020.

Time: 8:00 a.m. to 5:00 p.m.

Agenda: To review and evaluate grant applications.

Place: Holiday Inn Gaithersburg, Walker Conference Room and Whetstone Conference Room 2, Montgomery Village Avenue, Gaithersburg, MD 20879.

Contact Person: Maryline Laude-Sharp, Ph.D., Scientific Review Officer, Division of Scientific Programs, National Institutes of Health, NIMHD, Gateway Building, 7201 Wisconsin Avenue, Ste. 525, MSC. 9206, Bethesda, MD 20892, (301) 451-9536, mlaudesharp@mail.nih.gov.

Dated: January 7, 2020.
Miguelina Perez,
Program Analyst, Office of Federal Advisory Committee Policy.

[FR Doc. 2020-00273 Filed 1-10-20; 8:45 am]

BILLING CODE 4140-01-P